DEPARTMENT OF TRANSPORTATION

Federal Aviation Administration

Notice of Passenger Facility Charge (PFC) Approvals and Disapprovals

AGENCY: Federal Aviation Administration (FAA), DOT.

ACTION: Monthly Notice of PFC Approvals and Disapprovals. In July 2009, there were three applications approved. Additionally, 12 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of Pierre, South Dakota.

Application Number: 09-02-C-00-PIR.

Application Type: Impose and use a PFC.

PFC Level: $4.50.

Total PFC Revenue Approved in this Decision: $422,107.

Earliest Charge Effective Date: September 1, 2009.

Estimated Charge Expiration Date: September 1, 2016.

Class of Air Carriers Not Required to Collect PFC's: None.

Brief Description of Projects Approved for Collection and Use

Develop PFC application number 2.

Reconstruct and narrow runway 13/31 and blast pads for runway ends 13 and 31.

Construct high intensity runway lighting systems for runway 13/31.

Airport master plan study to identify passenger terminal needs.

Snow removal equipment storage and aircraft rescue and firefighting vehicle maintenance building.

Acquire aircraft rescue and firefighting vehicle.

Decision Date: July 9, 2009.

FOR FURTHER INFORMATION CONTACT: Thomas Schauer, Bismarck Airports District Office, (847) 294-7674.

Public Agency: County of San Joaquin, Stockton, California.

Application Number: 09-02-C-00-SCK.

Application Type: Impose and use a PFC.

PFC Level: $4.50.

Total PFC Revenue Approved in this Decision: $187,241.

Earliest Charge Effective Date: September 1, 2009.

Estimated Charge Expiration Date: September 1, 2010.

Class of Air Carriers Not Required to Collect PFC's: Nonscheduled/on demand air carriers filing FAA Form 1800-31.

Determination: Approved. Based on information contained in the public agency's application, the FAA has determined that the proposed class accounts for less than 1 percent of the total annual enplanements at Stockton Metropolitan Airport.

Brief Description of Projects Approved for Collection and Use

Extend runway 11L/29R: relocate medium intensity approach lighting system with runway alignment indicator lights building.

Security access control.

Acquire aircraft rescue and firefighting vehicle.

Runway electrical regulator.

Terminal holdroom modifications.

Decision Date: July 15, 2009.

FOR FURTHER INFORMATION CONTACT: Gretchen Kelly, San Francisco Airports District Office, (650) 876-2778, extension 623.

Public Agency: City of Syracuse Department of Aviation, Syracuse, New York.

Application Number: 09-08-U-00-SYR.

Application Type: Use PFC revenue. PFC Level: $4.50.

Total PFC Revenue Approved for Use in this Decision: $96,700,685.

Charge Effective Date: April 1, 2007.

Estimated Charge Expiration Date: August 1, 2026.

Class of Air Carriers Not Required to Collect PFC's: No change from previous decision.

Brief Description of Project Approved for Use: Passenger terminal security and access improvements.

Decision Date: July 22, 2009.

FOR FURTHER INFORMATION CONTACT: Andrew Brooks, New York Airports District Office, (516) 227-3816.

Amendments to PFC Approvals
Amendment No. city, state | Amendment approved date | Original approved net PFC revenue | Amended approved net PFC revenue | Original estimated charge exp. date | Amended estimated charge exp. date
08-11-C-02-DSM Des Moines, IA. | 06/23/09 | $4,681,798 | $4,692,786 | 01/01/18 | 01/01/18
94-03-C-02-HSV Huntsville, AL. | 06/26/09 | 17,870,695 | 17,863,228 | 02/01/03 | 02/01/03
04-09-C-05-CRW Charleston, WV. | 07/10/09 | 9,719,526 | 14,859,526 | 03/01/13 | 04/01/17
09-07-C-01-RDM Redmond, OR. | 07/15/09 | 25,000,000 | 25,000,000 | 07/01/40 | 07/01/40
04-07-C-01-EYW Key West, FL. | 07/16/09 | 1,420,700 | 221,279 | 02/01/06 | 02/01/06
04-08-C-02-EYW Key West, FL. | 07/16/09 | 360,250 | 267,034 | 07/01/05 | 07/01/05
*93.01-I-03-ALB Albany, NY. | 07/22/09 | 104,851,491 | 104,851,491 | 03/01/20 | 02/01/18
96-03-C-01-ALB Albany, NY. | 07/22/09 | 11,888,847 | 11,888,847 | 12/01/20 | 02/01/20
00-04-C-02-SRQ Sarasota, FL. | 07/23/09 | 38,495,063 | 60,689,947 | 02/01/14 | 02/01/14
02-06-C-01-MSP Minneapolis, MN. | 07/23/09 | 1,161,478,610 | 793,254,352 | 01/01/17 | 12/01/15
05-07-U-01-MSP Minneapolis, MN. | 07/23/09 | NA | NA | 01/01/17 | 12/01/15
05-06-C-02-SYR Syracuse, NY. | 07/23/09 | 6,719,197 | 4,248,943 | 02/01/07 | 02/01/07

Note: The amendment denoted by an asterisk (*) includes a change to the PFC level charged from $3.00 per enplaned passenger to $4.50 per enplaned passenger. For Albany, NY, this change is effective on September 1, 2009.

Issued in Washington, DC, on November 30, 2009.
Joe Hebert,
Manager, Financial Analysis and Passenger Facility Charge Branch.

[FR Doc. E9-29016 Filed 12-4-09; 8:45 am]

BILLING CODE 4910-13-M